DEPARTMENT OF TRANSPORTATION

Federal Aviation Administration

Delegation of Authority

AGENCY: Federal Aviation Administration (FAA), DOT.

ACTION: Notice of delegation of authority.

SUMMARY: The FAA is giving notice of a new delegation of authority from the Administrator to the Chief Counsel and to the Director of the Office of Adjudication regarding civil penalty actions under 14 CFR part 13 subpart G. The delegation was set forth in a memorandum signed by the Administrator dated March 28, 2016. The FAA is publishing the text of the delegation, so that it is available to interested parties. This delegation supersedes and replaces a previous delegation of authority by the Administrator by memorandum issued on October 27, 1992 and published in the Federal Register on December 9, 1992. 57 FR 58280; December 9, 1992.

FOR FURTHER INFORMATION CONTACT: Marie A. Collins, Dispute Resolution Officer and Administrative Judge for the Office of Adjudication (AGC-70), Federal Aviation Administration, 800 Independence Street, SW., Room 323, Washington, DC 20591; telephone (202) 267-3290; facsimile (202) 267-3720.

SUPPLEMENTARY INFORMATION: In civil penalty actions governed by the procedural rules in 14 CFR part 13, subpart G, the Administrator, acting as the FAA decisionmaker, is the official authorized to issue final agency decisions and orders. The Chief Counsel, the Assistant Chief Counsel for Litigation, and attorneys on his staff, have advised the Administrator, acting as FAA decisionmaker, regarding appeals from initial decisions in civil penalty actions under these procedural rules. By memorandum dated October 29, 1992, and published in the Federal Register on December 9, 1992, the Administrator delegated certain limited authority as the FAA decisionmaker in appeals in civil penalty cases to the Chief Counsel and the Assistant Chief Counsel, Litigation. Recently, when the Litigation Division was reorganized, the Assistant Chief Counsel for Litigation's authority to advise the Administrator regarding appeals from initial decisions was transferred to the Director of the Office of Adjudication. By memorandum dated March 28, 2016, the Administrator issued an updated delegation of authority to manage appeals in such civil penalty actions to the Chief Counsel and the Director of the Office of Adjudication.

The full text of the March 28, 2016 delegation from the Administrator to the Chief Counsel and to the Director of the Office of Adjudication provides: In furtherance of an efficient FAA civil penalty appeals process, pursuant to 49 U.S.C. 322(b) and 14 CFR part 13 subpart G, I hereby delegate authority to the Chief Counsel and to the Director of the Office of Adjudication as follows:

a. To administer civil penalty appeals, to appoint personnel of the Office of Adjudication to manage all or portions of individual appeals; and to prepare written decisions and proposed final orders in such appeals;

b. To issue procedural and other interlocutory orders aimed at proper and efficient case management, including, without limitation, scheduling and sanctions orders;

c. To grant or deny motions to dismiss appeals;

d. To dismiss appeals upon request of the appellant or by agreement of the parties;

e. To provide voluntary alternative dispute resolution (ADR) services prior to or during the pendency of appeals, upon request of the parties, in accordance with established Department of Transportation and FAA policies;

f. To stay decisions and orders of the FAA decisionmaker, pending judicial review or reconsideration by the FAA decisionmaker;

g. To summarily dismiss repetitious or frivolous petitions to reconsider or modify orders;

h. In matters subject to the Equal Access to Justice Act (EAJA), as implemented in CFR part 14, to execute and issue orders and final decisions on behalf of the Administrator on any EAJA applications;

i. To correct typographical, grammatical and similar errors in the FAA decisionmaker's decisions and orders, and to make non-substantive editorial changes;

j. To take all other reasonable steps deemed necessary and proper for the management of the civil penalty appeals process, in accordance with 14 CFR part 13 and applicable law.

k. The foregoing authority may be re-delegated, as necessary.

This Delegation supersedes and replaces the Delegation issued to the Chief Counsel and the Assistant Chief Counsel for Litigation, dated December 9, 1992 and the Re-delegation to the Adjudications Branch Manager, dated August 6, 1993.

Issued in Washington, DC, on March 28, 2016.
Michael Huerta,
Administrator.

[FR Doc. 2016-09656 Filed 4-25-16; 8:45 am]

BILLING CODE 4910-13-P